DEPARTMENT OF COMMERCE

National Oceanic and Atmospheric Administration

50 CFR Part 660

[Docket No. 020430101-2101-01; I.D. 101102C]

Fisheries Off West Coast States and in the Western Pacific; West Coast Salmon Fisheries; Inseason Action 14--Adjustment of the Recreational Fishery from Leadbetter Point, WA to Cape Falcon, OR (Columbia River Area)

AGENCY: National Marine Fisheries Service (NMFS), National Oceanic and Atmospheric Administration (NOAA), Commerce.

ACTION: Adjustment; request for comments.

SUMMARY: NMFS announces that the recreational fishery in the area from Leadbetter Point, WA to Cape Falcon, OR (Columbia River Area), was modified to close at midnight on Monday, September 2, 2002, and then reopen Friday, September 6, 2002, through midnight on Sunday, September 15, 2002. On August 29, 2002, the Northwest Regional Administrator, NMFS (Regional Administrator), determined that available catch and effort data indicated that the quota of 55,700 coho salmon would be reached by September 2, 2002. However, after reevaluating the available catch and effort data on September 4, 2002, it was found that there was enough salmon left in the coho quota to allow an additional 10 days of fishing if coho were transferred from Westport sub-area quota. These actions were necessary to conform to the 2002 management goals.

DATES: Closure in the Columbia River Area effective 2359 hours local time (l.t.), September 2, 2002; Reopening in the Columbia River Area effective 0001 hours l.t., September 6, 2002 through 2359 hours l.t., September 15, 2002, after which the fishery will remain closed until opened through an additional inseason action, which will be published in the Federal Register for the west coast salmon fisheries, or until the effective date of the year 2003 management measures. Comments will be accepted through November 15, 2002.

ADDRESSES: Comments on this action must be mailed to D. Robert Lohn, Regional Administrator, Northwest Region, NMFS, NOAA, 7600 Sand Point Way N.E., Bldg. 1, Seattle, WA 98115-0070; or faxed to 206-526-6376; or Rod McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator modified the season for the recreational fishery in the Columbia River sub-area to close at midnight on Monday, September 2, 2002, and then reopen Friday, September 6, 2002, through midnight on Sunday, September 15, 2002. On August 29, 2002 the Northwest Regional Administrator, NMFS (Regional Administrator), determined that available catch and effort data indicated that the quota of 55,700 coho salmon would be reached by September 2, 2002. However, after reevaluating the available catch and effort data on September 4, 2002, it was found that there was enough salmon left in the coho quota to allow an additional 10 days of fishing if the remaining coho were transferred from the Westport sub-area quota. Automatic season closures based on quotas are authorized by regulations at 50 CFR 660.409(a)(1), and modification of fishing seasons is authorized by regulations at 50 CFR 660.409(b)(1)(i).

In the 2002 annual management measures for ocean salmon fisheries (67 FR 30616, May 7, 2002), NMFS announced the recreational fishery in the area from the U.S.-Canada Border to Cape Falcon, OR, would have an overall chinook quota of 67,500 fish, with each of its four sub-areas having a chinook guideline. The Columbia River sub-area was announced to open July 7, 2002, through the earlier of September 30 or a 55,700 coho subarea quota, with a guideline of 11,200 chinook. The Westport sub-area was announced to open June 30, 2002, through the earlier of September 8, 2002, or a 39,280 coho subarea quota, with a guideline of 32,000 chinook.

The Columbia River sub-area fishery was modified twice by inseason action. The fishery was first modified to establish chinook minimum size limits of 28 inches (71.1 cm) total length from the U.S.-Canada Border to Leadbetter Point, WA, and 26 inches (66.0 cm) total length from Leadbetter Point, WA to Cape Falcon, OR effective July 21, 2002 (67 FR 52891, August 14, 2002). Information provided on July 18, 2002, regarding the available catch and effort data indicated that modifying the minimum size limit of 24 inches (61.0 cm) total length for chinook to the adjusted size limits should be implemented to slow the catch of chinook and provide greater access to the coho quota. Second, the season for the recreational fishery in the area from the U.S.-Canada Border to Cape Falcon, OR, was modified to prohibit chinook retention effective Saturday, August 10, 2002, in the Neah Bay, La Push, and Columbia River sub-areas (see 67 FR 61041, August 27, 2002). The three sub-areas would then remain open through the earlier of their established season end dates or the attainment of their respective marked coho subarea quotas.

The recreational fishery in the Westport, WA sub-area was modified three times by inseason action. The last action modified the Westport sub-area to reopen on Sunday, August 18, 2002, through midnight on Monday, August 19, 2002, to access the available chinook and marked coho left in the sub-area quotas (67 FR 63055, October 10, 2002). The sub-area closed for the 2002 season because there were no chinook remaining in the guideline. However, there were approximately 20,000 marked coho left in the Westport sub-area quota when the sub-area closed.

On August 29, 2002, the Regional Administrator consulted with representatives of the Pacific Fishery Management Council (Council), Washington Department of Fish and Wildlife(WDFW), and Oregon Department of Fish and Wildlife (ODFW) by conference call. Information related to catch to date, the chinook and coho catch rates, and effort data indicated that it was likely that the coho quota would be reached by Monday, September 2, 2002. As a result, the States of Washington and Oregon recommended, and the Regional Administrator concurred, that the Columbia River sub-area close effective at midnight on Monday, September 2, 2002. All other restrictions that apply to this fishery remained in effect as announced in the 2002 annual management measures. In addition, the parties agreed to reevaluate the fishery on September 4, 2002, to assess the possibility of further openers.

On September 4, 2002, the Regional Administrator again consulted with representatives of the Council, WDFW and ODFW by conference call. Information related to catch to date, the chinook and coho catch rates, and effort data indicated that there was enough coho left in the Columbia River sub-area quota, added with the available coho remaining from the Westport sub-area quota, to allow 10 more days of fishing. In addition, enough chinook remained in the quota to account for anticipated hooking mortality that would occur during the fishery. As a result, the States of Washington and Oregon recommended, and the Regional Administrator concurred, that the recreational fishery in the Columbia River sub-area should be modified to reopen on Friday, September 6, 2002, through midnight on Sunday, September 15, 2002, to access the available marked coho left in the modified sub-area quota. All other restrictions that applied to this fishery, including the chinook non-retention requirement, remained in effect as announced in the 2002 annual management measures and subsequent inseason actions.

The Regional Administrator determined that the best available information indicated that the catch and effort data, and projections, supported the above inseason actions recommended by the States. The States manage the fisheries in State waters adjacent to the areas of the U.S. exclusive economic zone in accordance with this Federal action. As provided by the inseason notice procedures of 50 CFR 660.411 (1)(2), actual notice to fishers of the above described actions were given prior to the effective dates by telephone hotline number 206-526-6667 and 800-662-9825, and by U.S. Coast Guard Notice to Mariners broadcasts on Channel 16 VHF-FM and 2182 kHz.

These actions do not apply to other fisheries that may be operating in other areas.

Classification

The Assistant Administrator for Fisheries, NOAA (AA), finds that good cause exists for this notification to be issued without affording prior notice and opportunity for public comment under 5 U.S.C. 553(b)(B), or delaying the effectiveness of this rule for 30 days under 5 U.S.C. 553(d)(3), because such notification and delay is impracticable and contrary to the public interest. As previously noted, actual notice of these actions were provided to fishers through telephone hotline and radio notification. These actions comply with the requirements of the annual management measures for ocean salmon fisheries (67 FR 30616, May 7, 2002) and the West Coast Salmon Plan. Prior notice and opportunity for public comment is impracticable because NMFS and the State agencies have insufficient time to provide for prior notice and the opportunity for public comment between the time the fishery catch and effort data are collected to determine the extent of the fisheries, and the time the limits to which the fishery must be adjusted. Moreover, such prior notice and the opportunity for public comment is contrary to the public interest because it does not allow fishers appropriately controlled access to the available fish at the time they are available.

The AA finds good cause to waive the 30-day delay in effectiveness required under 5 U.S.C. 553(d)(3). A delay in effectiveness of this action would not allow fishers appropriately controlled access to the available fish at the time they are available.

This action is authorized by 50 CFR 660.409 and 660.411 and is exempt from review under Executive Order 12866.

Authority: 16 U.S.C. 1801 et seq.

Dated: October 21, 2002.
Bruce C. Morehead,
Acting Director, Office of Sustainable Fisheries, National Marine Fisheries Service.

[FR Doc. 02-27362 Filed 10-25-02; 8:45 am]

BILLING CODE 3510-22-S